DEPARTMENT OF DEFENSE

Department of the Navy

Information on Surplus Land at a Military Installation Designated for Disposal: Navy-Marine Corps Reserve Center, Tulsa, OK

AGENCY: Department of the Navy, DoD.

ACTION: Notice.

SUMMARY: This notice provides information on the surplus property at Navy-Marine Corps Reserve Center (NMCRC), Tulsa, OK.

FOR FURTHER INFORMATION CONTACT: Ms. Kimberly Kesler, Director, Base Realignment and Closure Program Management Office, 1455 Frazee Road, San Diego, CA 92108-4310, telephone 619-532-0993; or Mr. James E. Anderson, Director, Base Realignment and Closure Office, Southeast, 2144 Eagle Drive, North Charleston, SC 29604, telephone 843-820-5809.

SUPPLEMENTARY INFORMATION: In 2005, NMCRC Tulsa, OK was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at NMCRC Tulsa, OK is published in the Federal Register.

Redevelopment Authority. The local redevelopment authority for NMCRC Tulsa, OK is the Armed Forces Reserve Center (AFRC) Broken Arrow Local Redevelopment Authority (LRA). The point of contact is Mr. Dave Wooden, Assistant City Manager, City of Broken Arrow, City Hall, P.O. Box 610, 220 South 1st Street, Broken Arrow, OK 74013, telephone 918-259-2400, ext. 5332.

Surplus Property Description. The following is a list of the land and facilities at NMCRC Tulsa, OK that are surplus to the needs of the Federal Government.

a. Land. NMCRC Tulsa, OK consists of approximately 11.40 acres of improved land located within Tulsa County and the City of Broken Arrow. In general, this area will be available when the installation closes in September 2011.

b. Buildings. The following is a summary of the buildings and other improvements located on the above-described land that will also be available when the installation closes. Property numbers are available on request.

(1) Administrative/Training facilities (2 structures). Comments: Approximately 63,650 square feet.

(2) Paved areas (roads and surface areas). Comments: Approximately 20,400 square yards consisting of roads and other similar surface areas, i.e., sidewalks, parking lots, etc.

Redevelopment Planning. Pursuant to Section 2905(b)(7)(F) of the Act, the AFRC Broken Arrow LRA will conduct a community outreach effort with respect to the surplus property and will publish, within 30 days of the date of this notice, in a newspaper within the vicinity of the NMCRC Tulsa, OK the time period during which the LRA will receive interest from State and local governments, representatives of the homeless, and other interested parties. This publication shall include the name address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7091 Filed 5-9-06; 8:45 am]

BILLING CODE 3810-FF-P